DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims (the Court) is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the Court and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on June 1, 2019, through June 30, 2019. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading For Further Information Contact), with a copy to HRSA addressed to Director, Division of Injury Compensation Programs, Healthcare Systems Bureau, 5600 Fishers Lane, 08N146B, Rockville, Maryland 20857. The Court's caption (Petitioner's Name v. Secretary of HHS) and the docket number assigned to the petition should be used as the caption for the written submission. Chapter 35 of title 44, United States Code, related to paperwork reduction, does not apply to information required for purposes of carrying out the Program.

Dated: July 18, 2019.
George Sigounas,
Administrator.

List of Petitions Filed

1. Gary Radford, Washington, District of Columbia, Court of Federal Claims No: 19-0808V

2. Yong Yu, Flushing, New York, Court of Federal Claims No: 19-0809V

3. Robert Nocille, Sewell, New Jersey, Court of Federal Claims No: 19-0810V

4. Todd Garrison, Lewisburg, Pennsylvania, Court of Federal Claims No: 19-0811V

5. Victoria Marcus, Rockville, Maryland, Court of Federal Claims No: 19-0812V

6. Patricia McDorman, Bowie, Maryland, Court of Federal Claims No: 19-0814V

7. Stephen Winkelstein, Washington, District of Columbia, Court of Federal Claims No: 19-0815V

8. Jennifer Longo, Morrisville, North Carolina, Court of Federal Claims No: 19-0816V

9. Judy Bell, Madison, Florida, Court of Federal Claims No: 19-0817V

10. Ana Margarita Flores, Norwalk, California, Court of Federal Claims No: 19-0818V

11. Jean Draper, Rio Rancho, New Mexico, Court of Federal Claims No: 19-0819V

12. Ross Davenport, Spokane, Washington, Court of Federal Claims No: 19-0820V

13. Julian Paul, Louisville, Kentucky, Court of Federal Claims No: 19-0821V

14. Arati Katherine Johnston, Radnor, Pennsylvania, Court of Federal Claims No: 19-0822V

15. Michelle Maupin, Milroy, Indiana, Court of Federal Claims No: 19-0823V

16. Charles Eastwood, Manchester, New Hampshire, Court of Federal Claims No: 19-0824V

17. Lavada M. Hodd, Hayward, Wisconsin, Court of Federal Claims No: 19-0828V

18. Mary Clausen, Cape Coral, Florida, Court of Federal Claims No: 19-0829V

19. Daniel Joseph Martin, Elkhart, Indiana, Court of Federal Claims No: 19-0830V

20. Lyudmila Dutil, South Riding, Virginia, Court of Federal Claims No: 19-0831V

21. Ashlee Rodriguez, Boston, Massachusetts, Court of Federal Claims No: 19-0832V

22. Warren Lathan, Chicago, Illinois, Court of Federal Claims No: 19-0833V

23. Anita Gross, Yankton, South Dakota, Court of Federal Claims No: 19-0835V

24. Janet Yanchak Holick, Tucson, Arizona, Court of Federal Claims No: 19-0838V

25. Leonel Sanchez, Houston, Texas, Court of Federal Claims No: 19-0840V

26. Crystal Shuhart, Greenville, South Carolina, Court of Federal Claims No: 19-0842V

27. Marlene Gallichan, Seattle, Washington, Court of Federal Claims No: 19-0845V

28. Bruce Yoch, Pittsburgh, Pennsylvania, Court of Federal Claims No: 19-0849V

29. Michael J. McFall, Corning, New York, Court of Federal Claims No: 19-0850V

30. Sanela Nicocevic on behalf of S.R., Stamford, Connecticut, Court of Federal Claims No: 19-0853V

31. Anita McDonald, Philadelphia, Pennsylvania, Court of Federal Claims No: 19-0855V

32. Betty Myers-Noble, Los Angeles, California, Court of Federal Claims No: 19-0856V

33. Michaelene Widson, Reno, Nevada, Court of Federal Claims No: 19-0858V

34. Ralph L. Lamacchia, Milwaukee, Wisconsin, Court of Federal Claims No: 19-0860V

35. Debra Hatchett, Lake Forest, Illinois, Court of Federal Claims No: 19-0861V

36. Maria Carrillo, Chicago, Illinois, Court of Federal Claims No: 19-0862V

37. Douglas Sandhofer, Timonium, Maryland, Court of Federal Claims No: 19-0863V

38. Tammee Hinton, Winter Garden, Florida, Court of Federal Claims No: 19-0866V

39. David Glassman, M.D., Phoenix, Arizona, Court of Federal Claims No: 19-0867V

40. Lamise Al-Basha, Rockford, Illinois, Court of Federal Claims No: 19-0869V

41. Hannah Davis, Charlevoix, Michigan, Court of Federal Claims No: 19-0871V

42. Meagan Sevier, Andover, Kansas, Court of Federal Claims No: 19-0872V

43. Rachel Clemmer, Takoma Park, Maryland, Court of Federal Claims No: 19-0878V

44. Timothy Andrews, Memphis, Tennessee, Court of Federal Claims No: 19-0879V

45. Virginio Trevisan on behalf of Victoria Leonor Trevisan, Torrance, California, Court of Federal Claims No: 19-0880V

46. Antonio Illiano, Hampton, New Jersey, Court of Federal Claims No: 19-0884V

47. Olivia D. Thompson, Richmond, Virginia, Court of Federal Claims No: 19-0887V

48. George Youhana and Belina Youhana on behalf of C.Y.Y., Los Gatos, California, Court of Federal Claims No: 19-0888V

49. Linda Modderman, Spokane, Washington, Court of Federal Claims No: 19-0890V

50. Matthew Thompson, Belleville, Michigan, Court of Federal Claims No: 19-0891V

51. Autumn Morgan, East Stroudsburg, Pennsylvania, Court of Federal Claims No: 19-0893V

52. Norma Blair, Bourbonnais, Illinois, Court of Federal Claims No: 19-0894V

53. Maxfel Goodson, Vancouver, Washington, Court of Federal Claims No: 19-0895V

54. Michael Ball, Boone, North Carolina, Court of Federal Claims No: 19-0896V

55. Anthony Stefano, Newport Beach, California, Court of Federal Claims No: 19-0898V

56. Kelly Bennett, Cincinnati, Ohio, Court of Federal Claims No: 19-0902V

57. Brad Bundesen, Washington, District of Columbia, Court of Federal Claims No: 19-0903V

58. Dana Sherrod, Carrollton, Texas, Court of Federal Claims No: 19-0906V

59. Rhonda O'Brien, Washington, District of Columbia, Court of Federal Claims No: 19-0909V

60. Adriana Lopez, Boston, Massachusetts, Court of Federal Claims No: 19-0910V

61. Christina Witham, Gahanna, Ohio, Court of Federal Claims No: 19-0912V

62. Jacqueline Venable, Washington, District of Columbia, Court of Federal Claims No: 19-0913V

63. Kaminie Rampergash, Washington, District of Columbia, Court of Federal Claims No: 19-0914V

64. Jennifer Imm, Washington, District of Columbia, Court of Federal Claims No: 19-0915V

65. Edward Zhao, Washington, District of Columbia, Court of Federal Claims No: 19-0916V

66. Rosa Ortiz, Davenport, Iowa, Court of Federal Claims No: 19-0917V

67. Laura Zalewski, Chicago, Illinois, Court of Federal Claims No: 19-0918V

68. Angelena Walker, Bellefontaine, Ohio, Court of Federal Claims No: 19-0919V

69. Anna Nasher, Dresher, Pennsylvania, Court of Federal Claims No: 19-0920V

70. Lisa Simmons, Bellevue, Washington, Court of Federal Claims No: 19-0924V

71. Tammie Walden, Gray, Georgia, Court of Federal Claims No: 19-0927V

72. Abby L. Adams on behalf of Donald C. Adams, Deceased, Linwood, New Jersey, Court of Federal Claims No: 19-0929V

73. Melody Massi, Wayne, Pennsylvania, Court of Federal Claims No: 19-0930V

74. Bridgett Runkles, Tinker Air Force Base, Oklahoma, Court of Federal Claims No: 19-0934V

75. Judson Costlow, Richmond, Indiana, Court of Federal Claims No: 19-0935V

76. Griselda Ruiz, Richmond, Virginia, Court of Federal Claims No: 19-0936V

77. Virginia Carpanini, Hudson, New York, Court of Federal Claims No: 19-0940V

78. Ralph F. Harper, Fernley, Nevada, Court of Federal Claims No: 19-0941V

79. Sandra Lucchesi, Santa Rosa, California, Court of Federal Claims No: 19-0943V

80. Leanne Roth, Carpinteria, California, Court of Federal Claims No: 19-0944V

81. Gavin Beagley, American Fork, Utah, Court of Federal Claims No: 19-0948V

[FR Doc. 2019-15910 Filed 7-25-19; 8:45 am]

BILLING CODE 4165-15-P